DEPARTMENT OF STATE

[Public Notice: 7803]

30-Day Notice of Proposed Information Collection: Gender Assessment Surveys, OMB Control Number 1405-xxxx

ACTION: Notice of request for public comment and submission to OMB of proposed collection of information.

SUMMARY: The Department of State has submitted the following information collection request to the Office of Management and Budget (OMB) for approval in accordance with the Paperwork Reduction Act of 1995.

• Title of Information Collection: Gender Assessment Surveys.

• OMB Control Number: None.

• Type of Request: New Collection.

• Originating Office: Bureau of Educational and Cultural Affairs, Office of Policy and Evaluation, Evaluation Division (ECA/P/V).

• Form Number: SV2011-0027 (FORTUNE Survey); SV2011-0028 (American Fellows Program Survey); SV2011-0029 (Institute for Representative Government (IRG) Survey); SV2011-0030 (International Leaders in Education Program Survey).

• Respondents: Fortune/U.S. State Department Global Women's Mentoring Partnership Program participants from 2006 through 2010, International Leaders in Education Program (ILEP) participants from 2006 through 2010, Institute for Representative Government (IRG) participants from 2003 through 2010, and American Fellows Program participants from 2006-2010.

• Estimated Number of Respondents: 778 annually (146-Fortune; 257-ILEP; 200-IRG, 175-Fellows).

• Estimated Number of Responses: 778 annually (146-Fortune; 257-ILEP; 200-IRG, 175-Fellows).

• Average Hours per Response: 31 minutes (35-Fortune; 35-ILEP; 20-IRG; 35-Fellows).

• Total Estimated Burden: 404 hours annually (85-Fortune; 150-ILEP; 67-IRG; 102-Fellows).

• Frequency: One time.

• Obligation to Respond: Voluntary.

DATES: Submit comments to the Office of Management and Budget (OMB) for up to 30 days from February 21, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Michelle Hale, ECA/P/V, SA-5, C2 Floor, Department of State, Washington, DC 20522-0505, who may be reached on 202-632-6312 or at HaleMJ2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

To meet OMB and Congressional reporting requirements, this request for a new information collection clearance will allow ECA/P/V, as part of the Gender Assessment Evaluation, to conduct surveys of exchange participants in the Fortune, ILEP, IRG, and American Fellows Program between the years of 2003 and 2010. Collecting this data will help ECA/P/V assess and measure the similar and different impacts the programs had on men and women participants.

Methodology

Evaluation data will be collected via Survey Gizmo, an on-line surveying tool. It is anticipated that a very limited number of participants may receive a hard copy of the surveys.

Dated: February 2, 2012.
Matt Lussenhop,
Director of the Office of Policy and Evaluation, Bureau of Educational and Cultural Affairs, Department of State.

[FR Doc. 2012-3966 Filed 2-17-12; 8:45 am]

BILLING CODE 4710-05-P